DEPARTMENT OF COMMERCE

Foreign-Trade Zones Board

[Order No. 1856]

Reorganization of Foreign-Trade Zone 129 Under Alternative Site Framework Bellingham, WA

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Port of Bellingham, grantee of Foreign-Trade Zone 129, Foreign-Trade Zone 130 and Foreign-Trade Zone 131, submitted an application to the Board (FTZ Docket B-32-2012, filed 05/01/2012) for authority to reorganize under the ASF with a service area of Whatcom County, Washington, within and adjacent to the Blaine, Washington U.S. Customs and Border Protection port of entry, as well as: merge FTZ 130 and FTZ 131 under FTZ 129 so that existing Site 1 of FTZ 130 would be renumbered as Site 4 of FTZ 129 and existing Sites 1 and 2 of FTZ 131 will be renumbered as Sites 5 and 6 of FTZ 129, respectively; remove portions of existing Site 1 of FTZ 129 and all of existing Site 2 of FTZ 130 from the merged zone project; and, FTZ 129's Sites 1, 3, 4, 5 and 6 would be categorized as “magnet” sites, with Sites 3, 4, 5 and 6 subject to a five-year ASF sunset provision for magnet sites;

Whereas, notice inviting public comment was given in the Federal Register (77 FR 27021-27022, 05/08/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 129 under the alternative site framework is approved, subject to the FTZ Act and the Board's regulations, including Section 400.13, to the Board's standard 2,000-acre activation limit for the zone, and to a five-year ASF sunset provision for magnet sites that would terminate authority for Sites 3, 4, 5 and 6 if not activated by September 30, 2017.

Signed at Washington, DC, this 20th day of September 2012.
Paul Piquado,
Assistant Secretary of Commerce for Import Administration, Alternate Chairman, Foreign-Trade Zones Board.

[FR Doc. 2012-24132 Filed 9-28-12; 8:45 am]

BILLING CODE P